LIBRARY OF CONGRESS

Copyright Royalty Board

[Docket No. CONSOLIDATED 14-CRB-0010-CD (2010-2013)]

Distribution of Cable Royalty Funds

AGENCY: Copyright Royalty Board (CRB), Library of Congress.

ACTION: Final allocation determination; correction.

SUMMARY: The Copyright Royalty Judges published a document in the Federal Register of February 12, 2019, concerning allocation of cable royalty funds. The document contained an incorrect reference to satellite royalty funds in the Summary and was missing citations in four footnotes.

FOR FURTHER INFORMATION CONTACT: Anita Blaine, CRB Program Specialist, by phone at (202) 707-7658 or by email at crb@loc.gov.

SUPPLEMENTARY INFORMATION:

Correction

In the Federal Register of February 12, 2019, in FR Doc. 2019-01544, on page 3552, in the first column, correct the Summary to read: The Copyright Royalty Judges announce the allocation of shares of cable royalty funds for the years 2010, 2011, 2012, and 2013 among six claimant groups. On page 3600, in the third column, correct footnote 169 to read: See sections IV.C.3-IV.C.5. On page 3566, in the second column, correct footnote 61 to read: The Judges discussed the distinction between an “effects” regression and a “prediction” regression at length, supra, section II.B.2.j. On page 3588, in the second column, correct footnote 132 to read: See discussion at section III.D.2.b. On page 3604, in the first column, correct footnote 179 to read: The Judges discuss the relevant prior rulings, infra, section VII.B.5.

Dated: February 15, 2019.
Suzanne M. Barnett,
Chief United States Copyright Royalty Judge.

[FR Doc. 2019-02942 Filed 2-20-19; 8:45 am]

BILLING CODE 1410-72-P